DEPARTMENT OF ENERGY

10 CFR Part 431

[Docket No. EERE-2010-BT-STD-0037]

RIN 1904-AC39

Energy Conservation Program: Energy Conservation Standard for Automatic Commercial Ice Makers

AGENCY: Office of Energy Efficiency and Renewable Energy, Department of Energy.

ACTION: Notice of extension of public comment period.

SUMMARY: On January 24, 2012, the U.S. Department of Energy (DOE) announced that it would hold a public meeting to discuss and receive comments on the product classes that DOE plans to analyze for purposes of establishing energy conservation standards for automatic commercial ice makers; the analytical framework, models, and tools that DOE is using to evaluate new and amended standards for these products; the results of preliminary analyses performed by DOE for these products; and potential energy conservation standard levels derived from these analyses that DOE could consider for these products. DOE also encouraged written comments on these subjects. This document announces an extension of the time period for submitting comments on the energy conservation standards notice of public meeting (NOPM) and availability of the preliminary technical support document (preliminary TSD) for automatic commercial ice makers. The comment period is extended to April 20, 2012.

DATES: The comment period for the energy conservation standards NOPM and preliminary TSD for automatic commercial ice makers, published on January 24, 2012 (77 FR 3404) is extended until April 22, 2012.

ADDRESSES: Any comments submitted must provide the appropriate docket number EERE-2010-BT-STD-0037 and/or RIN number 1904-AC39. Comments may be submitted using any of the following methods:

1. Federal eRulemaking Portal: www.regulations.gov. Follow the instructions for submitting comments.

2. Email: ACIM-2010-STD-0037@ee.doe.govmailto:RCAC-HP-2009-TP-0004@ee.doe.gov. Include the docket number EERE-2010-BT-STD-0037 and/or RIN number 1904-AC39 in the subject line of the message.

3. Postal Mail: Ms. Brenda Edwards, U.S. Department of Energy, Building Technologies Program, Mailstop EE-2J, Preliminary TSD for Automatic Commercial Ice Makers, EERE-2010-BT-STD-0037, 1000 Independence Avenue SW., Washington, DC 20585-0121. Telephone (202) 586-2945. If possible, please submit all items on CD. It is not necessary to include printed copies.

4. Hand Delivery/Courier: Ms. Brenda Edwards, U.S. Department of Energy, Building Technologies Program, 950 L'Enfant Plaza, SW., 6th Floor, Washington, DC 20024. Telephone (202) 586-2945. If possible, please submit all items on CD. It is not necessary to include printed copies.

Docket: The docket is available for review at www.regulations.gov, including Federal Register notices, key rulemaking documents, public meeting presentations, attendee lists and transcripts, comments, and other supporting documents/materials. All documents in the docket are listed in the regulations.gov index. However, not all documents listed in the index may be publicly available, such as information that is exempt from public disclosure. The regulations.gov Web page will contain instructions on how to access all documents in the docket, including public comments.

The rulemaking Web page can be found at: www.eere.energy.gov/buildings/appliance_standards/commercial/automatic_ice_making_equipment.html.

FOR FURTHER INFORMATION CONTACT: Mr. Charles Llenza, U.S. Department of Energy, Office of Energy Efficiency and Renewable Energy, Building Technologies, EE-2J, 1000 Independence Avenue SW., Washington, DC 20585-0121. Telephone: (202) 586-2192. Email: Charles.Llenza@ee.doe.gov.

In the Office of General Counsel, contact Mr. Ari Altman, U.S. Department of Energy, Office of the General Counsel, GC-71, 1000 Independence Avenue SW., Washington, DC 20585-0121, (202) 287-6307, Email: Ari.Altman@hq.doe.gov.

For information on how to submit or review public comments, contact Ms. Brenda Edwards, U.S. Department of Energy, Office of Energy Efficiency and Renewable Energy, Building Technologies Program, EE-2J, 1000 Independence Avenue SW., Washington, DC 20585-0121. Telephone (202) 586-2945. Email: Brenda.Edwards@ee.doe.gov.

SUPPLEMENTARY INFORMATION: On January 24, 2012, DOE published a Federal Register notice announcing the availability of its preliminary technical support document for energy conservation standards for automatic commercial ice makers, as well as a public meeting to discuss and receive comment on the preliminary analysis. 77 FR 3404. The NOPM provides for the submission of comments by March 9, 2012. The public meeting to discuss the preliminary analysis was held on February 16, 2012. At the public meeting, commenters requested that DOE provide additional information not contained in the preliminary technical support document. DOE agreed to provide the additional information. In addition, DOE received several requests for an extension to the comment period to review this additional information. Therefore, DOE has determined that an extension of the public comment period is appropriate to allow for the review of the additional information, and is hereby extending the comment period. DOE will consider any comments received by April 22, 2012 to be timely.

Further Information on Submitting Comments

Under 10 CFR 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) a description of the items; (2) whether and why such items are customarily treated as confidential within the industry; (3) whether the information is generally known by or available from other sources; (4) whether the information has previously been made available to others without obligation concerning its confidentiality; (5) an explanation of the competitive injury to the submitting person which would result from public disclosure (6) when such information might lose its confidential character due to the passage of time; and (7) why disclosure of the information would be contrary to the public interest.

Issued in Washington, DC, on February 28, 2012.
Kathleen B. Hogan,
Deputy Assistant Secretary Energy Efficiency, Energy Efficiency and Renewable Energy.

[FR Doc. 2012-5236 Filed 3-2-12; 8:45 am]

BILLING CODE 6450-01-P